LIBRARY OF CONGRESS

Copyright Royalty Board

37 CFR Part 360

[Docket No. 17-CRB-0012-RM]

Procedural Regulations for the Copyright Royalty Board Regarding Electronic Filing of Claims; Corrections

AGENCY: Copyright Royalty Board, Library of Congress.

ACTION: Correcting amendments.

SUMMARY: On July 8, 2019, the Copyright Royalty Judges revised their regulations to move several sections from one part to a new part. At the time, the Judges inadvertently failed to revise other regulations that include cross-references to the old part. They are now revising regulations regarding the filing of claims to reflect the change.

DATES: Effective June 14, 2022.

FOR FURTHER INFORMATION CONTACT: Anita Brown, CRB Program Specialist, 202-707-7658, crb@loc.gov.

SUPPLEMENTARY INFORMATION: In 2019, the Copyright Royalty Judges moved provisions related to general administrative items from part 350 to a new part 303 (84 FR 32296, July 8, 2019). The Judges inadvertently failed to make conforming revisions to part 360 governing the filing of claims at that time. The Judges now amend three sections of part 360 to correct outdated cross-references. They are updating the cross-reference in § 360.3(b) from § 350.7 to § 303.7 (regarding time) and the cross-references in §§ 360.4(c) and 360.22(c) from § 350.5(g) to § 303.5(g) (regarding changes in name and address). See 82 FR 27016 (June 13, 2017) (Final rule) and 82 FR 55323 (Nov. 21, 2017) (Correcting amendment).

List of Subjects in 37 CFR Part 360

Administrative practice and procedure, Cable royalties, Claims, Copyright, Electronic filing, Satellite royalties.

Accordingly, the Copyright Royalty Judges correct 37 CFR part 360 by making the following correcting amendments:

PART 360—FILING OF CLAIMS TO ROYALTY FEES COLLECTED UNDER COMPULSORY LICENSE

1. The authority citation for part 360 continues to read as follows:

Authority: 17 U.S.C. 801, 803, 805.

Subpart A also issued under 17 U.S.C. 111(d)(4) and 119(b)(4).

Subpart B also issued under 17 U.S.C. 1007(a)(1).

Subpart C also issued under 17 U.S.C. 111(d)(4), 119(b)(4) and 1007(a)(1).

Subpart A—Cable and Satellite Claims

§ 360.3 [Amended]

2. In § 360.3, amend paragraph (b) by removing “350.7” and adding in its place “303.7”.

§ 360.4 [Amended]

3. In § 360.4, amend paragraph (c) by removing “350.5(g)” and adding in its place “303.5(g)”.

Subpart B—Digital Audio Recording Devices and Media (DART) Royalty Claims

§ 360.22 [Amended]

4. In § 360.22, amend paragraph (c) by removing “350.5(g)” and adding in its place “303.5(g)”.

Dated: June 8, 2022.
Suzanne M. Barnett,
Chief Copyright Royalty Judge.

[FR Doc. 2022-12747 Filed 6-13-22; 8:45 am]

BILLING CODE 1410-72-P